DEPARTMENT OF HEALTH AND HUMAN SERVICES

Centers for Disease Control and Prevention

Advisory Board on Radiation and Worker Health, Subcommittee for Procedure Reviews; Cancellation of Meeting

AGENCY: Centers for Disease Control and Prevention (CDC), Department of Health and Human Services (HHS).

ACTION: Notice.

SUMMARY: This is to notify the public that the July 30, 2024, meeting of the Advisory Board on Radiation and Worker Health, Subcommittee for Procedure Reviews is cancelled.

FOR FURTHER INFORMATION CONTACT: Rashaun Roberts, Ph.D., National Institute for Occupational Safety and Health, CDC, 1090 Tusculum Avenue, Mailstop C-24, Cincinnati, Ohio 45226, Telephone: (513) 533-6800, Toll Free 1(800) CDC-INFO, Email: ocas@cdc.gov.

SUPPLEMENTARY INFORMATION: Notice is hereby given of a change in the meeting of the Advisory Board on Radiation and Worker Health, Subcommittee for Procedure Reviews (ABRWH, SPR). The meeting was announced in the Federal Register on May 17, 2024, Volume 89, Number 97, page 43404. This meeting is being canceled in its entirety. The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-19622 Filed 8-30-24; 8:45 am]

BILLING CODE 4163-18-P